DEPARTMENT OF HOUSING AND URBAN DEVELOPMENT

[Docket No. FR-7024-N-54]

30-Day Notice of Proposed Information Collection: Family Self-Sufficiency Program (FSS) Long-Term Follow-Up Survey; OMB Control No. 2528-NEW

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: January 13, 2021.

ADDRESSES: Interested persons are invited to submit comments regarding this proposal. Comments should refer to the proposal by name and/or OMB Control Number and should be sent to: HUD Desk Officer, Office of Management and Budget, New Executive Office Building, Washington, DC 20503; fax:202-395-5806, Email: OIRA Submission@omb.eop.gov

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on Tuesday March 24, 2020 at 85 FR 16649.

A. Overview of Information Collection

Title of Information Collection: Family Self-Sufficiency program (FSS) long-term follow-up Survey.

OMB Approval Number: 2506-New.

Type of Request: New.

Form Number: N/A

Description of the Need for the Information and Proposed Use: In 2012, HUD commissioned the national Family Self-Sufficiency (FSS) Study. MDRC was selected to lead this evaluation. As part of the longer-term follow-up, which HUD authorized in 2018—and extends through 2021, MDRC will conduct a long-term follow-up survey with a sample of individuals who enrolled in the study and were randomly assigned to a program group (offered the opportunity to enroll in FSS and receive services) or a control group. The survey will allow us to understand the FSS program's long-term effects on indicators of economic self-sufficiency (employment and income, for example) and well-being (health, financial, material, housing, for example). The survey will also provide an opportunity to understand the program participation experiences of FSS participants in the study who continue to be enrolled in FSS and those who exited for a variety of reasons, including graduation from FSS. No other comprehensive data source exists to provide the type of information that will be collected by this follow-up survey.

Information collection | Number of respondents | Frequency of response | Responses per annum | Burden hour per response | Annual burden hours | Hourly cost per response | Cost
Total | 1,300.00 | 1 .00 | 1,300.00 | 0.33 ¹ | 429.00 | $9.87 ² | $4,234.23 ³
¹ Based on HUD feedback and suggestions on the instrument, the survey might run between 18-20 minutes, slightly longer than the 15-minute estimate in the Federal notice.
² To compute the hourly cost per response, MDRC used the weighted average state minimum wage of the 18 study sites, as of October 1, 2020. The state minimum wages were weighted by the number of study participants in each state. State minimum wage rates were found on the DOL website (https://www.dol.gov/agencies/whd/minimum-wage/). The minimum wages in 7 states are: California ($12.00), Florida ($8.56), Maryland ($11.00), Missouri ($9.45), New Jersey ($11.00), Ohio ($7.25), and Texas ($7.25).
³ To compute the total estimated annual cost, the total estimated annual burden hours were multiplied by the hourly cost per response. The calculation assumes 429 total annual burden hours if all 1,300 study participants respond to the survey.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of

information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. Chapter 35.

Anna P. Guido,
Department Reports Management Officer, Office of the Chief Information Officer.

[FR Doc. 2020-27432 Filed 12-11-20; 8:45 am]

BILLING CODE 4210-67-P